DEPARTMENT OF AGRICULTURE

Rural Utilities Service

Information Collection Activity; Notice of Request for Extension of Currently Approved Information Collection

AGENCY: Rural Utilities Service, USDA.

ACTION: Notice and request for comments.

SUMMARY: In accordance with the Paperwork Reduction Act, the United States Department of Agriculture (USDA) Rural Development administers rural utilities programs through the Rural Utilities Service (RUS). RUS invites comments on the following information collection for which the Agency intends to request approval from the Office of Management and Budget (OMB).

DATES: Comments on this notice must be received by February 19, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email Thomas.dickson@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether this collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on respondents, including through the use of appropriate automated, electronic, mechanical, or other technological collection techniques or other forms of information technology. Comments may be sent to: Thomas P. Dickson, Rural Development Innovation Center—Regulatory Team 2, USDA, 1400 Independence Avenue SW, STOP 1522, Room 5164, South Building, Washington, DC 20250-1522. Telephone: (202) 690-4492. Email Thomas.dickson@usda.gov.

Title: Emergency and Imminent Community Water Assistance Grants.

OMB Control Number: 0572-0110.

Type of Request: Extension of a currently approved information collection.

Abstract: Rural Utilities Service (RUS), an agency delivering the U.S. Department of Agriculture (USDA) administers Emergency and Imminent Community Water Assistance Grants awards grants to qualified rural communities that have experienced a significant decline in quality or quantity of water or expect such a decline to be imminent. Grants under this RUS program may be made to public bodies and private nonprofit corporations serving rural areas. Public bodies include counties, cities, townships, incorporated towns and villages, boroughs, authorities, districts, and other political subdivisions of a state. Public bodies also include Indian Tribes on Federal and State reservations and other Federally-recognized Indian tribal groups in rural areas. Applicants will provide information to be collected as part of the application and grant process through documentation, certifications, or completed application forms.

Estimate of Burden: Public reporting for this collection of information is estimated to average 7 hours per response.

Respondents: Public Bodies, Not-for-profit Institutions, and Federally-Recognized Tribes.

Estimated Number of Respondents: 52.

Estimated Total Annual Burden on Respondents: 2,924 hours.

Copies of this information collection can be obtained from Diane M. Berger, Management Analysis, Rural Development Innovation Center—Regulatory Team, (715) 619-3124, or email: diane.berger@usda.gov.

All responses to this notice will be summarized and included in the request for OMB approval. All comments will also become a matter of public records.

Dated: December 10, 2018.
Christopher A. McLean,
Acting Administrator, Rural Utilities Service.

[FR Doc. 2018-27073 Filed 12-18-18; 8:45 am]

BILLING CODE P